COMMITTEE FOR THE IMPLEMENTATION OF TEXTILE AGREEMENTS

Denial of Participation in the Special Access Program

February 24, 2000.

AGENCY: Committee for the Implementation of Textile Agreements (CITA).

ACTION: Issuing a directive to the Commissioner of Customs suspending participation in the Special Access Program.

EFFECTIVE DATE: March 20, 2000.

FOR FURTHER INFORMATION CONTACT: Lori E. Mennitt, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

The Committee for the Implementation of Textile Agreements (CITA) has determined that Quitman Manufacturing has violated the requirements for participation in the Special Access Program, and has suspended Quitman Manufacturing from participation in the Program for the period March 20, 2000 through June 19, 2000.

Through the letter to the Commissioner of Customs published below, CITA directs the Commissioner to prohibit entry of products under the Special Access Program by or on behalf of Quitman Manufacturing during the period March 20, 2000 through June 19, 2000, and to prohibit entry by or on behalf of Quitman Manufacturing under the Program of products manufactured from fabric exported from the United States during that period.

Requirements for participation in the Special Access Program are available in Federal Register notice 63 FR 16474, published on April 3, 1998.

D. Michael Hutchinson,
Acting Chairman, Committee for the Implementation of Textile Agreements.

Committee for the Implementation of Textile Agreements

February 24, 2000.

Commissioner of Customs,

Department of the Treasury, Washington, DC 20229.

Dear Commissioner: The purpose of this directive is to notify you that the Committee for the Implementation of Textile Agreements has suspended Quitman Manufacturing from participation in the Special Access Program for the period March 20, 2000 through June 19, 2000. You are therefore directed to prohibit entry of products under the Special Access Program by or on behalf of Quitman Manufacturing during the period March 20, 2000 through June 19, 2000. You are further directed to prohibit entry of products under the Special Access Program by or on behalf of Quitman Manufacturing manufactured from fabric exported from the United States during the period March 20, 2000 through June 19, 2000.

Sincerely,

D. Michael Hutchinson,
Acting Chairman, Committee for the Implementation of Textile Agreements.

[FR Doc. 00-4870 Filed 2-29-00; 8:45 am]

BILLING CODE 3510-DR-F